DEPARTMENT OF TRANSPORTATION

National Highway Traffic Safety Administration

Volkswagen Petition for Exemption From the Vehicle Theft Prevention Standard; Correction

AGENCY: National Highway Traffic Safety Administration (NHTSA), Department of Transportation (DOT).

ACTION: Notice; correction.

SUMMARY: The National Highway Traffic Safety Administration (NHTSA) published a document in the Federal Register of May 27, 2010, granting in full Volkswagen Group of America's (Volkswagen) petition for an exemption of a new [confidential nameplate] vehicle line in accordance with 49 CFR part 543, Exemption from the Theft Prevention Standard. This document corrects the model year of the new Volkswagen vehicle line published in the “Summary” section. All previous information associated with the published notice remains the same.

FOR FURTHER INFORMATION CONTACT: Ms. Carlita Ballard, Office of International Policy, Fuel Economy and Consumer Programs, NHTSA, 1200 New Jersey Avenue, SE., Washington, DC 20590. Ms. Ballard's telephone number is (202) 366-0846. Her fax number is (202) 493-2990.

Correction

In the Federal Register of May 27, 2010, in FR Doc. 2010-12809, on page 29814, in the first column, correct the “Summary” section to read:

SUMMARY: This document grants in full the Volkswagen Group of America (Volkswagen) petition for an exemption of the new vehicle line [confidential nameplate] in accordance with 49 CFR part 543, Exemption from the Theft Prevention Standard. This petition is granted because the agency has determined that the antitheft device to be placed on the line as standard equipment is likely to be as effective in reducing and deterring motor vehicle theft as compliance with the parts marking requirements of the Theft Prevention Standard (49 CFR part 541). Volkswagen requested confidential treatment for the information it submitted in support of its petition until the market introduction of its new MY 2012 vehicle line (expected to be not later than December 2011). The agency addressed Volkswagen's request for confidential treatment by letter dated April 30, 2010.

Issued on: June 11, 2010.
Stephen R. Kratzke,
Associate Administrator for Rulemaking.

[FR Doc. 2010-14575 Filed 6-16-10; 8:45 am]

BILLING CODE 4910-59-P